DEPARTMENT OF HEALTH AND HUMAN SERVICES

Administration for Children and Families

Submission for Office of Management and Budget Review; Personal Responsibility Education Program (PREP) Innovative Strategies (PREIS) Local Evaluation Support: Final Evaluation Report Template (New Collection)

AGENCY: Office of Planning, Research, and Evaluation, Administration for Children and Families, U.S. Department of Health and Human Services.

ACTION: Request for public comments.

SUMMARY: The Administration for Children and Families (ACF) at the U.S. Department of Health and Human Services seeks approval of the Personal Responsibility Education Program (PREP) Innovative Strategies (PREIS) Local Evaluation Support: Final Evaluation Report Template for PREIS grantees. PREIS grant recipients are required to carry out local evaluations of their programs and submit a final evaluation report to ACF documenting their analyses and findings. This request includes guidance for grant recipients in the form of templates. Information will inform technical assistance (TA) to support grantees in developing and submitting the final reports to ACF to fulfill a grant requirement. We do not intend for this information to be used as the principal basis for public policy decisions.

DATES: Comments due January 20, 2026.

ADDRESSES: The public may view and comment on this information collection request at: https://www.reginfo.gov/public/do/PRAViewICR?ref_nbr=202512-0970-005. You can also obtain copies of the proposed collection of information by emailing opreinfocollection@acf.hhs.gov. Identify all requests by the title of the information collection.

SUPPLEMENTARY INFORMATION:

Description: The purpose of the current information collection request is to provide a standardized template and accompanying instructions to the 12 PREIS grant recipients carrying out impact evaluations. This template will help them document their evaluation's research questions, measures, study design, planned and actual implementation of the program, analytic methods, and findings. A structured final evaluation report template will facilitate grant recipients' efficient and effective reporting of evaluation findings. The completed reports will be reviewed by the PREP Local Evaluation Support (LES) team to determine whether they meet ACF's standards of rigor. The LES team will then develop recommendations for improvement and provide TA to support report development prior to final submission to ACF. While grantees are developing the reports, the PREP LES team will continue to provide support primarily by continuing to offer one-on-one TA calls with grant recipients.

The template will be used by grant recipients upon Office of Management and Budget approval until September 2026 (or until the end of their grant, if a no-cost extension is granted), which will allow them to submit draft versions of their final evaluation reports before revising and finalizing their reports by the end of their grant. Grant recipients will complete the PREIS Final Evaluation Report Template using the instructions which are included within each template section.

The information collected is meant to contribute to the body of knowledge on ACF programs. It is not intended to be used as the principal basis for a decision by a federal decision-maker and is not expected to meet the threshold of influential or highly influential scientific information.

Respondents: PREP PREIS Grant Recipients.

Annual Burden Estimates
Instrument | Number of respondents (total over request period) | Number of responses per respondent (total over request period) | Aerage burden per response (in hours) | Total burden (in hours) | Annual burden (in hours)
PREIS Final Evaluation Report Template | 12 | 1 | 40 | 480 | 240

Authority: Authorized and appropriated by Social Security Act section 513.

Mary C. Jones,
ACF/OPRE Certifying Officer.

[FR Doc. 2025-23261 Filed 12-17-25; 8:45 am]

BILLING CODE 4184-37-P